DEPARTMENT OF JUSTICE

[OMB Number 1121-0111]

Agency Information Collection Activities; Proposed eCollection eComments Requested; Revision of a Currently Approved Collection: National Crime Victimization Survey (NCVS)

AGENCY: Bureau of Justice Statistics, Department of Justice.

ACTION: 60-Day notice.

SUMMARY: The Bureau of Justice Statistics (BJS), Department of Justice (DOJ) will be submitting the following information collection request to the Office of Management and Budget (OMB) for review and approval in accordance with the Paperwork Reduction Act of 1995.

DATES: Comments are encouraged and will be accepted for 60 days until September 22, 2025.

FOR FURTHER INFORMATION CONTACT: If you have additional comments especially on the estimated public burden or associated response time, suggestions, or need a copy of the proposed information collection instrument with instructions or additional information, please contact Rachel Morgan, Chief, Victimization Statistics Unit, Bureau of Justice Statistics, 999 N Capitol Street NE, Washington, DC 20531 (email: BJSPRA.Comments@ojp.usdoj.gov; telephone: 202-307-0765).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The National Crime Victimization Survey (NCVS) provides national data on the level and change of criminal victimization both reported and not reported to police in the United States. The NCVS instrument measures victimization and incident characteristics and includes two periodic modules on police performance and community safety. The 2026 NCVS includes a sample redesign which updates the first stage of the NCVS sample selection to reflect changes in the U.S. population based on the 2020 decennial census.

Overview of This Information Collection

1. Type of Information Collection: Revision of a currently approved collection.

2. The Title of the Form/Collection: National Crime Victimization Survey.

3. The agency form number, if any, and the applicable component of the Department sponsoring the collection: The form numbers for the questionnaire are the NCVS-1 and NCVS-2. The applicable component within the Department of Justice is the Bureau of Justice Statistics, in the Office of Justice Programs.

4. Affected public who will be asked or required to respond, as well as the obligation to respond: Affected Public: Persons 12 years or older living in sampled households located throughout the United States. The obligation to respond is voluntary.

5. An estimate of the total number of respondents and the amount of time estimated for an average respondent to respond: The estimate annual number of respondents is 157,439. The time per response is 34.4 minutes to complete the NCVS instrument. it will take the average non-interview respondent (e.g., nonrespondent) an estimated 9.3 minutes to respond; the average follow-up interview is estimated at 7 minutes; and the average follow-up for a non-interview is estimated at 1 minute.

6. An estimate of the total annual burden (in hours) associated with the collection: The total annual burden hours for this collection is 123,202 hours.

7. An estimate of the total annual cost burden associated with the collection, if applicable: $0.

Total Burden Hours
Activity | Number of respondents | Frequency | Total annual responses | Time per response (min) | Total annual burden (hours)
Interviewed | 91,312 | 2 | 182,624 | 34.4 | 104,698
Non-interviewed | 56,772 | 2 | 113,544 | 9.3 | 17,599
Re-interview (Interviews) | 7,484 | 1 | 7,484 | 7.0 | 873
Re-interview (Non-interviews) | 1,871 | 1 | 1,871 | 1.0 | 31
Unduplicated Totals | 157,439 |  | 305,523 |  | 123,202

If additional information is required contact: Darwin Arceo, Department Clearance Officer, United States Department of Justice, Justice Management Division, Policy and Planning Staff, Two Constitution Square, 145 N Street NE, 4W-218, Washington, DC.

Dated: July 22, 2025.
Darwin Arceo,
Department Clearance Officer for PRA, U.S. Department of Justice.

[FR Doc. 2025-13931 Filed 7-23-25; 8:45 am]

BILLING CODE 4410-18-P